DEPARTMENT OF DEFENSE

Office of the Secretary

[Docket ID: DoD-2022-OS-0124]

Submission for OMB Review; Comment Request

AGENCY: Office of the Under Secretary of Defense for Personnel and Readiness (OUSD(P&R)), Department of Defense (DoD).

ACTION: 30-Day information collection notice.

SUMMARY: In compliance with the Paperwork Reduction Act of 1995, the DoD announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 25, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, or whs.mc-alex.esd.mbx.dd-dod-information-collections@mail.mil.

SUPPLEMENTARY INFORMATION:

Title; Associated Form; and OMB Number: Defense Organizational Climate Pulse (DOCP)—Version 1.0; OMB Control Number 0704-DOCP.

Type of Request: New.

Number of Respondents: 158,910.

Responses per Respondent: 1.

Annual Responses: 158,910.

Average Burden per Response: 7 minutes.

Annual Burden Hours: 18,539.5.

Needs and Uses: The Defense Organizational Climate Pulse (DOCP) is fielded in compliance with a DoD Instruction (DoDI) 6400.11. The information gathered from the DOCP will be used by commanders, prevention workforce personnel, equal opportunity officers (EOAs), survey administrators, and other leaders to assess changes in the unit's command climate, gather additional information related to risk and protective factors measured on the DEOCS and/or other outcomes of interest (e.g., sexual assault, sexual harassment, racial/ethnic discrimination, suicide, readiness, retention, retaliation, and various forms of abuse). At the direction of President Biden, the Secretary of Defense ordered a 90-Day Independent Review Commission (IRC) on Sexual Assault in the Military. In recommendation 3.7a, the IRC suggested the Department of Defense establish “pulse survey” tool that would enable unit-level commanders to collect real-time climate data from Service members in their units between required administrations of the Defense Organizational Climate Survey (DEOCS), the command climate assessment tool used by the DoD (IRC-FULL-REPORT-FINAL-1923-7-1-21.PDF (defense.gov). In response to IRC recommendation 3.7a, the Office of the Under Secretary of Defense for Personnel and Readiness issued a DoD Instruction (DoDI) 6400.11 (DoD Instruction 6400.11, “DoD Integrated Primary Prevention Policy for Prevention Workforce and Leaders,” December 20, 2022 (whs.mil)) that established the Defense Organizational Climate Pulse (DOCP) as a new survey tool intended to provide insight into targeted topics that are relevant to specific units.

A DOCP provides DoD leaders in active duty and Reserve component DoD units and DoD civilian personnel organizations a means to assess concerns identified in the DEOCS on an as-needed annual basis. Also included in the DOCP population are active duty and Reserve component members of the Coast Guard and foreign national employees working for the DoD. The survey is web-based and is a census of the commander's unit. The survey includes core demographic questions and a pool of survey items that include topics related to (1) unit experiences, (2) ratings of leadership, and (3) personal experiences and/or behaviors.

The DOCP requirements (as noted in DoDI 6400.11), specifies that unit commanders may field only one DOCP annually. Based on the DOCP results, commanders, leaders, and their survey administrators will refine the action plans developed after the administration of a DEOCS to positively impact their organization's leadership climate. The survey results are provided to the commander/leader and their survey administrator. Survey responses could also be used in future analyses. Unit commanders and organizational leaders may choose to administer a DOCP 90 days after their most recent DEOCS. The DOCP is a voluntary data collection unit commanders may request. The annual population frame for the DOCP is anticipated to be a share of units/organizations that complete a DEOCS. Specifically, we anticipate a roughly 10% of DEOCS participants to take a DOCP. We estimate that 158,910 participants will complete a DOCP survey annually. Additionally, we anticipate a response rate of around 40% as seen with the DEOCS collection. The DOCP will be a confidential data collection.

Affected Public: Individuals or households.

Frequency: As required.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: July 19, 2023.
Aaron T. Siegel,
Alternate OSD Federal Register Liaison Officer, Department of Defense.

[FR Doc. 2023-15809 Filed 7-25-23; 8:45 am]

BILLING CODE 5001-06-P